DEPARTMENT OF HEALTH AND HUMAN SERVICES

Centers for Medicare and Medicaid Services

[Document Identifier: CMS-10089]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure compliance with the Balanced Budget Act of 1997. We cannot reasonably comply with the normal clearance procedures due to unforeseen circumstances. These circumstances include the following:

1. The Health Outcomes Survey (HOS) was the original research approach to be used to collect health status indicators on Social Maintenance Health Organization (SHMO) and MSHO/MnDHO beneficiaries. This survey proved inadequate for a frail population as the HOS is lengthy and it was determined that response rates were too low when tested on the PACE population. Further, 43% of the MSHO community enrollees and approximately 89% of the MnDHO community enrollees are frail and Nursing Home Certifiable (NHC).

2. The State of Minnesota became very concerned about using the HOS due to the above findings by CMS, and preferred using the PHS for their beneficiaries who are more similar to beneficiaries in PACE.

3. MSHO/MnDHO health plans must comply with the same PACE PHS survey timelines to assure that the new risk adjustment payment approach will be implemented January 2004.

CMS is requesting OMB review and approval of this collection by June 16, 2003, with a 180-day approval period. Written comments and recommendations will be accepted from the public if received by the individuals designated below by June 9, 2003. During this 180-day period, we will publish a separate Federal Register notice announcing the initiation of an extensive 60-day agency review and public comment period on these requirements. We will submit the requirements for OMB review and an extension of this emergency approval. Type of Information Collection Request: New collection; Title of Information Collection: Data Collection for Administering the PACE Health Survey to Beneficiaries Enrolled in the Dual Eligible Demonstrations, Minnesota Senior Health Options and Minnesota Disability Health Options; Form No.: CMS-10089 (OMB# 0938-XXXX); Use: The Centers for Medicare & Medicaid Services has developed a survey, the PHS, that is similar to the Health Outcomes Survey (HOS). This survey was approved for PACE and the Wisconsin Partnership Program (WPP) on March 14, 2003. This emergency is a request to include administering the OMB approved survey to beneficiaries enrolled in Minnesota Senior Health Options and Minnesota Disability Health Options (MSHO/MnDHO). The main purpose of the PHS is to collect health status information that may be used to adjust Medicare payment to MSHO/MnDHO health plan organizations. It has been successfully pilot-tested to assess response rates and accuracy of responses under different distribution approaches. The pilot test enabled CMS to select an approach whereby MSHO/MnDHO enrollees will be sent surveys to fill out and can request assistance from family or professionals; Frequency: Annually; Affected Public: Not-for-profit institutions; Number of Respondents: 2,600; Total Annual Responses: 1,768; Total Annual Hours: 295.

We have submitted a copy of this notice to OMB for its review of these information collections. A notice will be published in the Federal Register when approval is obtained.

To obtain copies of the supporting statement and any related forms for the proposed paperwork collections referenced above, access CMS's Web Site address at http://www.hcfa.gov/regs/prdact95.htm, or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below, by June 9, 2003: Centers for Medicare and Medicaid Services, Office of Strategic Operations and Regulatory Affairs, Division of Regulations Development and Issuances, Room C5-14-03, 7500 Security Boulevard, Baltimore, MD 21244-1850. Fax Number: (410) 786-3064, Attn: Dawn Willinghan, CMS-10089; and,

Office of Information and Regulatory Affairs, Office of Management and Budget, Room 10235, New Executive Office Building, Washington, DC 20503, Fax Number: (202) 395-6974 or (202) 395-5167 Attn: Brenda Agular, CMS Desk Officer.

Dated: April 22, 2003.
Dawn Willinghan,
Acting, CMS Reports Clearance Officer, CMS, Office of Strategic Operations and Regulatory Affairs, Division of Regulations Development and Issuances.

[FR Doc. 03-10479 Filed 4-28-03; 8:45 am]

BILLING CODE 4120-03-P